DEPARTMENT OF THE INTERIOR

Bureau of Land Management

[LLCO912000-LL07770900.XX0000]

Notice of the Joint Colorado Resource Advisory Council Meeting

AGENCY: Bureau of Land Management, Interior.

ACTION: Notice of public meetings.

SUMMARY: In accordance with the Federal Land Policy and Management Act of 1976 (FLPMA) and the Federal Advisory Committee Act of 1972 (FACA), the U.S. Department of the Interior, Bureau of Land Management (BLM) Northwest Colorado Resource Advisory Council (NWRAC), Southwest Resource Advisory Council (SWRAC), and Front Range Resource Advisory Council (FRRAC) will meet as indicated below.

DATES: The Northwest, Southwest and Front Range Colorado RACs have scheduled a joint meeting for February 23, 24, and 25, 2011.

ADDRESSES: The Joint Colorado RAC (JCRAC) meeting will be held February 23 the meeting will begin at 1 p.m. and adjourn at 5:15 p.m.; on February 24 the meeting will begin at 8 a.m. and adjourn at 4:30 p.m.; on February 25 the meeting will begin at 8 a.m. and adjourn at noon. A 45-minute public comment period, from 10:30 a.m. to 11:15 a.m., is scheduled for February 24, at the SteamPlant Event Center, 220 West Sackett Street, Salida, CO.

FOR FURTHER INFORMATION CONTACT: Deanna Masterson, Public Affairs Specialist, BLM Colorado State Office, 2850 Youngfield St., Lakewood, CO 80215, telephone (303) 239-3671.

SUPPLEMENTARY INFORMATION: The Colorado RACs advise the Secretary of the Interior, through the BLM, on a variety of public land issues in Colorado. Topics of discussion during the RAC meeting may include working group reports, underserved populations, the National Landscape Conservation System, recreation, land-use planning, fire, energy and minerals management, travel management, wilderness, wild horse herd management, land exchange proposals, and cultural resource management.

These meetings are open to the public. The public may present written comments to the RAC. There will also be time, as identified above, allocated for hearing public comments. Depending on the number of people who wish to comment during the public comment period, individual comments may be limited.

Dated: January 20, 2011.
Helen M. Hankins,
State Director.

[FR Doc. 2011-1605 Filed 1-25-11; 8:45 am]

BILLING CODE 4310-JB-P